DEPARTMENT OF TRANSPORTATION

Surface Transportation Board

Release of Waybill Data

The Surface Transportation Board has received a request from Thompson Hine and McCarthy, Sweeney & Harkaway on behalf of the State of North Dakota (WB456-1-5/11/2005) for continued access to certain data from the Board's 2001 and 2002 Carload Waybill Samples. A copy of the requests may be obtained from the Office of Economics, Environmental Analysis, and Administration.

The waybill sample contains confidential railroad and shipper data; therefore, if any parties object to these requests, they should file their objections with the Director of the Board's Office of Economics, Environmental Analysis, and Administration within 14 calendar days of the date of this notice. The rules for release of waybill data are codified at 49 CFR 1244.9.

Contact: Mac Frampton, (202) 565-1541.

Vernon A. Williams,
Secretary.

[FR Doc. 05-9913 Filed 5-18-05; 8:45 am]

BILLING CODE 4915-01-P